DEPARTMENT OF THE TREASURY

48 CFR Parts 1022 and 1052

Department of the Treasury Acquisition Regulation; Correction

AGENCY: Office of the Procurement Executive, Treasury.

ACTION: Correcting amendments.

SUMMARY: On March 20, 2014 and March 4, 2015, the Department of the Treasury published in the Federal Register amendments to the Department of the Treasury Acquisition Regulation (DTAR). This document includes correcting amendments to address inadvertent errors.

DATES: Effective date: January 19, 2016.

FOR FURTHER INFORMATION CONTACT: Thomas O'Linn, Procurement Analyst, Office of the Procurement Executive, at (202) 622-2092.

SUPPLEMENTARY INFORMATION: The DTAR, which supplement the Federal Acquisition Regulation, are codified at 48 CFR chapter 10. In order to update certain elements in 48 CFR chapter 10, the Department issued final rules on March 20, 2014 (79 FR 15551) and March 4, 2015 (80 FR 11595). In the final rules, a correction to the heading of section 1052.201-70 and paragraph (f) of the section were inadvertently omitted. In addition, section 1052.222-70 was not incorporated and the heading for subpart 1022.70 was incorrectly listed as subpart 1022.7. These items are corrected in this document.

List of Subjects in 48 CFR Parts 1022 and 1052

Government procurement.

Accordingly, the Department of the Treasury amends 48 CFR chapter 10 as follows:

PART 1022—MINORITY AND WOMEN INCLUSION

1. The authority citation for part 1022 continues to read as follows:

Authority: 12 U.S.C. 5452.

Subpart 1022.7 [Redesignated as subpart 1022.70]

2. Redesignte subpart 1022.7 as subpart 1022.70.

PART 1052—SOLICITATION PROVISIONS AND CONTRACT CLAUSES

3. The authority citation for part 1052 continues to read as follows:

Authority: 41 U.S.C. 1707.

4. In section 1052.201-70, revise the section heading and add paragraph (f) to read as follows:

1052.201-70 Contracting Officer's Representative (COR) appointment and authority.

* * * * *

(f) Failure of the Contractor and the Contracting Officer to agree that technical direction is within the scope of the contract shall be subject to the terms of the clause entitled “Disputes.”

5. Add § 1052.222-70 to read as follows:

1052.222-70 Minority and Women Inclusion.

As prescribed in 1022.7000, insert the following clause:

Minority and Women Inclusion (Jan 2016)

(a) Contractor confirms its commitment to equal opportunity in employment and contracting. To implement this commitment, the Contractor shall ensure, to the maximum extent possible consistent with applicable law, the fair inclusion of minorities and women in its workforce. The Contractor shall insert the substance of this clause in all subcontracts awarded under this contract whose dollar value exceeds $150,000. Within ten business days of a written request from the Contracting Officer, or such longer time as the Contracting Officer determines, and without any additional consideration required from the Agency, the Contractor shall provide documentation, satisfactory to the Agency, of the actions it (and as applicable, its subcontractors) has undertaken to demonstrate its good faith effort to comply with the aforementioned provisions. For purposes of this contract, “good faith effort” may include actions by the Contractor intended to identify and, if present, remove barriers to minority and women employment or expansion of employment opportunities for minorities and women within its workforce. Efforts to remove such barriers may include, but are not limited to, recruiting minorities and women, providing job-related training, or other activity that could lead to those results.

(b) The documentation requested by the Contracting Officer to demonstrate “good faith effort” may include, but is not limited to, one or more of the following—

(1) The total number of Contractor's employees, and the number of minority and women employees, by race, ethnicity, and gender (e.g., an EEO-1);

(2) A list of subcontract awards under the contract that includes: Dollar amount, date of award, and subcontractor's race, ethnicity, and/or gender ownership status;

(3) Information similar to that required in paragraph (b)(1) of this clause, with respect to each subcontractor; and/or

(4) The Contractor's plan to ensure that minorities and women have appropriate opportunities to enter and advance within its workforce, including outreach efforts.

(c) Consistent with Section 342(c)(3) of the Dodd-Frank Wall Street Reform and Consumer Protection Act (Pub. L. 111-203) (Dodd-Frank Act), a failure to demonstrate to the Director of the Agency's Office of Minority and Women Inclusion such good faith efforts to include minorities and women in the Contractor's workforce (and as applicable, the workforce of its subcontractors), may result in termination of the contract for default, other contractual remedies, or referral to the Office of Federal Contract Compliance Programs (OFCCP). Compliance with this clause does not, however, necessarily satisfy the requirements of Executive Order 11246, as amended, nor does it preclude OFCCP compliance evaluations and/or enforcement actions undertaken pursuant to that Executive Order.

(d) For purposes of this clause, the terms “minority,” “minority-owned business,” and “women-owned business” shall have the meanings set forth in Section 342(g) of the Dodd-Frank Act.

Iris Cooper,
Senior Procurement Executive.

[FR Doc. 2016-00853 Filed 1-15-16; 8:45 am]

BILLING CODE 4810-25-P